DEPARTMENT OF HEALTH AND HUMAN SERVICES

Office of Inspector General

Program Exclusions: October 2001

AGENCY: Office of Inspector General, HHS.

ACTION: Notice of program exclusions.

During the month of October 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ABRANTE, HECTOR | 02/20/2002
HIALEAH, FL
ADAMS, BILLY WAYNE | 02/20/2002
FEDERAL WAY, WA
BINA, SHOKROLLAH | 02/20/2002
LOS ANGELES, CA
CARING RESPIRATORY SVCS, INC | 09/17/2001
CORAL GABLES, FL
CARROLL, MAXIE G | 02/20/2002
TALLAHASSEE, FL
CORVO, RENE | 02/20/2002
JESSUP, GA
DJGLYAN, ARUTYUN | 02/20/2002
ELOY, AZ
DOUGHERTY, TERRENCE W | 02/20/2002
CLAYTON, MO
ENRIQUEZ, HONORIA | 02/20/2002
MIAMI, FL
ESPINOZA, THELMA AUXILIADOR | 02/20/2002
SOUTHGATE, CA
FAULKNER, THERESA ANN | 02/20/2002
PHOENIX, AZ
FRENZI, MICHELLE L | 02/20/2002
AURORA, CO
FULLER, ALISHA ANN | 02/20/2002
SPRINGFIELD, OR
HING, VAN DAN | 02/20/2002
LONG BEACH, CA
JACKSON, ERNESTINE W | 02/20/2002
INDIANAPOLIS, IN
JACKSON, ALYSSA JOYCE | 02/20/2002
BATON ROUGE, LA
JOHNSON, DOUGLAS A | 02/20/2002
ALTOONA, PA
KATSNELSON, EDWARD | 02/20/2002
DENVER, CO
KATSNELSON, LYUDMILA | 02/20/2002
DENVER, CO
KILMER, CATHY P | 02/20/2002
TACOMA, WA
LEVY, STEPHEN E | 10/25/2000
TRINIDAD W INDIES,
MADDEN, EVA | 02/20/2002
DETROIT, MI
MILLER, ROBERT | 02/09/2001
ARLINGTON, TX
MOLSBEE, BRENDA M | 02/20/2002
TALLAHASSEE, FL
PADILLA, CRISOLOGO L | 02/20/2002
BROOKLYN, NY
PARONIAN, KAZAR | 02/20/2002
MISSION HILLS, CA
PEREZ-ARYAN, ELIA | 09/17/2001
CORAL GABLES, FL
PRICE, LESLIE E | 02/20/2002
CARY, NC
SALUDO, EDUARDO DY | 02/20/2002
LOS ANGELES, CA
SCHNEIDER-RUCINSKI, NOREEN | 02/20/2002
SAN DIEGO, CA
SMOLKOVICH, REGAN | 02/20/2002
ARVADA, CO
STUARDO, LUIS ARTEMIO | 02/20/2002
BONITA, CA
STUARDO, CAROL MARIE | 02/20/2002
BONITA, CA
VILLARIZA, BEATRICE BURROLA | 02/20/2002
PALM DESERT, CA
WILLIAMS-WARD, LORRAINE F | 02/20/2002
GREEN POND, SC
WOODWORTH, LINDA LERENE | 02/20/2002
DANBURY, CT
FELONY CONVICTION FOR HEALTH CARE FRAUD
AULT, ELLEN FRANCIS SCANLON | 02/20/2002
LEXINGTON, KY
KOTANSKY, MICHELLE | 02/20/2002
HAZLETON, PA
SMITH, LEE ALLEN | 02/20/2002
APPLE VALLEY, MN
SULLIVAN, JENNIFER A | 02/20/2002
ROSLINDALE, MA
FELONY CONTROL SUBSTANCE CONVICTION
AGER, ALAN LAWRENCE | 02/20/2002
SAN GERONIMO, CA
BRIGGS, JOHN | 02/20/2002
KINGSPORT, TN
DOUGLAS, NATALIE | 02/20/2002
BESSEMER, MI
MARTINEZ, RICHARD FRANK | 02/20/2002
SAFFORD, AZ
RYAN, KAREN MARIE | 02/20/2002
COLORADO SPRNGS, CO
SHOCKLEY, CHERONDA KIM | 02/20/2002
ROGERSVILLE, TN
PATIENT ABUSE/NEGLECT CONVICTIONS
ARMERO, JUAN ANTONIO | 02/20/2002
AZUSA, CA
BRANCH, CURTIS | 02/20/2002
VICKSBURG, MS
BULLIS, SHAWN R | 02/20/2002
DELAVAN, WI
CONGER, EARLENE | 02/20/2002
ST ALBANS, VT
GOMEZ, FRANCISCO JAVIER | 02/20/2002
WILDOMAR, CA
HART, SHANDER S | 02/20/2002
BATON ROUGE, LA
HAYES, DON JOHN | 02/20/2002
MANSURA, LA
HOWARD, WANDA E | 02/20/2002
WETUMKA, OK
MATHIS, PATRICIA | 02/20/2002
BRENHAM, TX
MCCOY, KIM MARIE | 02/20/2002
STOCKTON, AL
MCKENNEY, BRIAN | 02/20/2002
JOHNSTOWN, NY
NEWTON, VALERIA RILEY | 02/20/2002
MARION, LA
RAY, CHARMAINE | 02/20/2002
QUEENS, NY
ROBBINS, JAMES E | 02/20/2002
YOUNGSTOWN, OH
SALAZAR-VILLAR, CIRO ALCIDES | 02/20/2002
ESCONDIDO, CA
SANCHEZ-DE ARELLANO, NORA OLIV | 02/20/2002
VISTA, CA
SIMPSON, VICKY D | 02/20/2002
SMITHVILLE, TN
TRUDELL, SYLVIA MONTELL | 02/20/2002
PINEVILLE, LA
WOOD, LEIGH ANNE | 02/20/2002
TUCSON, AZ
CONVICTION FOR HEALTH CARE FRAUD
DICKSON, TRINA KAY | 02/20/2002
ARKANSAS CITY, KS
CONTROLLED SUBSTANCE CONVICTIONS
SKINNER, DAWN MICHELLE | 02/20/2002
ESCONDIDO, CA
LICENSE REVOCATION/SUSPENSION/SURRENDERED
ACKERMAN, SHARON R | 02/20/2002
AMES, IA
ADAMS, STEPHANIE DIANN | 02/20/2002
CHARLOTTE, NC
ALCAIDE, KELLEY KAY | 02/20/2002
SOMMERVILLE, NJ
BARBEE, DEBORAH S | 02/20/2002
CHICAGO, IL
BAUERNFEIND, JOYCE ELLEN | 02/20/2002
ROCHESTER, MN
BELT, HARRIET A | 02/20/2002
BLACK JACK, MO
BENNINGFIELD, GAYLA ANN COURTW | 02/20/2002
BRADFORDSVILLE, KY
BENTSON, KRISTA L | 02/20/2002
W DES MOINES, IA
BERUK, DJUANA | 02/20/2002
GREENVILLE, MS
BLANGIN, BARBARA B | 02/20/2002
LAGRANGE, IL
BONNELL, STEPHANIE | 02/20/2002
MONROE, NJ
BRISTOL, DAVID A | 02/20/2002
BRATTLEBORO, VT
BROOKS, REENE F | 02/20/2002
MATTOON, IL
BROWN, KAREN ANNETTE | 02/20/2002
DENVER, CO
BUNCH, LATITIA | 02/20/2002
CAMDEN, NJ
CAIN, DANNY MICHAEL | 02/20/2002
ROCHESTER, MN
CAPOUCH, ROBIN LYNN | 02/20/2002
BEMIDJI, MN
CARRIERE, LAUREN L | 02/20/2002
WOONSOCKET, RI
CARTER, MICHAEL ANSON | 02/20/2002
CHATSWORTH, CA
CHENG, HUNG HUI | 02/20/2002
SAN FRANCISCO, CA
CLAPP, NIOKAH | 02/20/2002
LOUSIVILLE, KY
COLLENBURG, SUSAN CATHERINE | 02/20/2002
LONGVIEW, TX
CONDIT, TONI R | 02/20/2002
GRAND JUNCTION, CO
COVARRUBIAS-MIER, JORGE A | 02/20/2002
PHOENIX, AZ
CRESWELL, DAVID | 02/20/2002
BLENCOE, IA
DICASTRO, STEVEN A | 02/20/2002
PRINCETON, MA
DILL, CASEY | 02/20/2002
ROSWELL, GA
DOTY, MARY T | 02/20/2002
STRASBURG, IL
DRUPPEL, PAUL ROBERT | 02/20/2002
FORT MADISON, IA
DUCHARME, NANCY LOUISE | 02/20/2002
ST PAUL, MN
EISEN, SARAH A | 02/20/2002
ELGIN, IL
ESTERMAN, SIDNEY | 02/20/2002
E ORANGE, NJ
FERGUSON, BONNIE S | 02/20/2002
MORRIS, IL
FLIPPO, SANDRA KAY BYROM | 02/20/2002
BELL BUCKLE, TN
FREEMAN, JENNIFER B | 02/20/2002
PHOENIZ, AZ
GARNER, DAWN L | 02/20/2002
SESSER, IL
GERGANS, GREGORY A | 02/20/2002
EVANSTON, IL
GOMEZ, ROBERT | 02/20/2002
YUMA, AZ
HAAKE, LISA A | 02/20/2002
DES MOINES, IA
HACHMEISTER, SUZANNE PEARL | 02/20/2002
WONDER LAKE, IL
HADLICH, ELIZABETH MAY | 02/20/2002
ST PAUL, MN
HARLAN, CAROLYN L | 02/20/2002
INDIANAPOLIS, IN
HARTLEY, LAUREL SUTCH | 02/20/2002
RICHEYVILLE, PA
HASSER, CARRIE MARIE | 02/20/2002
MORA, MN
HASTAD, PATRICIA KAY | 02/20/2002
BROOKLYN PARK, MN
HICKMAN, DEWAYNE KEITH | 02/20/2002
ANAHEIM, CA
HILBURN, CHERYL LYNN | 02/20/2002
WILMINGTON, NC
HILL, CANDY RENEE | 02/20/2002
BIRMINGHAM, AL
HYRY, PHILLIP WADE | 02/20/2002
ISHPEMING, MI
ILOUNO, GEORGE ORANYELU | 02/20/2002
HARBOR CITY, CA
IORDAMOVA, ZOYA | 02/20/2002
N HOLLYWOOD, CA
JOHNSON, KATHLEEN RUTH | 02/20/2002
MINNEAPOLIS, MN
JONES, LUCRETIA ANN | 02/20/2002
SALT LAKE CITY, UT
KAPOOR, QUDRAT S | 02/20/2002
ROSWELL, NM
KEESEE, DIANE LYN | 02/20/2002
CHICAGO, IL
KELSEY, MARIANNE BREIER | 02/20/2002
HIGH POINT, NC
KIM, BYUNG CHANG | 02/20/2002
DIAMOND BAR, CA
KOENIG, NANCY LOUISE | 02/20/2002
ROCHESTER, MN
KUSHMER, JOHN V | 02/20/2002
TAMPA, FL
LANDPHAIR, GREGORY R | 02/20/2002
STRYKERSVILLE, NY
LARA, FRANK J | 02/20/2002
MESA, AZ
LAWSON, ALAN R | 02/20/2002
FAYETTEVILLE, AR
LEADER, WILLIAM O | 02/20/2002
LOS ANGELES, CA
LEHNERTZ, LINDA LEE | 02/20/2002
OWATONNA, MN
LEVY, KENNETH D II | 02/20/2002
WINDSOR, CT
LONNES, DEBORAH JOY | 02/20/2002
ST PAUL, MN
LOOP, JERRY R | 02/20/2002
GRAND ISLAND, NE
LYONS, DANA | 02/20/2002
ROEBLING, NJ
MCAULEY, DONALD | 02/20/2002
PHOENIX, AZ
MCCANN, JON SCOTT | 02/20/2002
RED OAK, OK
MCGEE, VICKIE W | 02/20/2002
LA FAYETTE, GA
MCGEE, ELIZABETH | 02/20/2002
WAYNE, NJ
MILLER, LORI E | 02/20/2002
ALLEN, TX
MOONEY, SHARON RENE | 02/20/2002
FRANKVILLE, AL
MORLEY, KIMBERLY LYNNE | 02/20/2002
LITTLETON, CO
MORSE, TERRY FURR | 02/20/2002
WEXFORD, PA
MUNCAN, PETAR | 02/20/2002
HOWARD BEACH, NY
NEMAZEE, MAHMOUD | 02/20/2002
SANTA MONICA, CA
NESTOR, TIA M | 02/20/2002
HAY SPRINGS, NE
NIMMO, ZWANNAH G | 02/20/2002
PAWTUCKET, RI
NOVICK, HOWARD ALAN | 02/20/2002
BREINIGSVILLE, PA
O'BRIEN, DANIEL PATRICK | 02/20/2002
LEXINGTON, KY
PATTY, KENNETH D | 02/20/2002
BLAIRS, VA
PETERSON, CHERYL RENEE | 02/20/2002
BLOOMINGTON, MN
PIER, LARRY VAUGHN | 02/20/2002
PAYSON, AZ
PLANT-MAU, MARY J | 02/20/2002
CORPUS CHRISTI, TX
POLLARD, WILLIAM W | 02/20/2002
CORVALLIS, OR
PORTER, COLETTE S THREATS | 02/20/2002
NORFOLK, VA
PRADO, ANGEL | 02/20/2002
MANHASSET, NY
PROCTOR, ROSALIND G | 02/20/2002
PHOENIX, AZ
RANTALA, MARILYN JEAN | 02/20/2002
SPRINGFIELD, IL
RAY, FRANCES F | 02/20/2002
DENVER, CO
RICHARDS, KAY ANN | 02/20/2002
PHOENIX, AZ
RYAN, GERALDINE | 02/20/2002
BRICK, NJ
SAMOY, GREGORIO DALUZ | 02/20/2002
TUCSON, AZ
SANDOVAL, MANUEL A | 02/20/2002
NEW BRITAIN, CT
SARRACCO, LORI ANN | 02/20/2002
HAM LAKE, MN
SCHLEIF, NANCY ANN | 02/20/2002
PLYMOUTH, MN
SCHULTE, CYNTHIA L | 02/20/2002
KINGMAN, AZ
SKORA, ALAN P | 02/20/2002
DEWITT, IA
SMITH, VEE LANDIS | 02/20/2002
MINNEAPOLIS, MN
SOLOMON, ABRAHAM | 02/20/2002
LONG ISLAND CITY, NY
STRUWVE, SUSAN LOUISE | 02/20/2002
RAMSEY, MN
STULL, AARON MYLES | 02/20/2002
ROCHESTER, MN
TAMAYO, RICKY M | 02/20/2002
EL CENTRO, CA
TAYLOR, CORA REBECCA | 02/20/2002
TUCSON, AZ
THORNTON, JUDY LYNN | 02/20/2002
EL CAJON, CA
TOTH, JEANINE MICHELLE | 02/20/2002
HONOLULU, HI
TULLY, ANN MENDELSON | 02/20/2002
DOYLESTOWN, PA
TUTT, KEITH E | 02/20/2002
PROVIDENCE, RI
UNDERWOOD, CLYDE HAMILTON | 02/20/2002
CLARKSVILLE, AR
VEJRASKA, EUGENE | 02/20/2002
ALLIANCE, NE
VISSER, SUSAN C | 02/20/2002
KNOXVILLE, IA
VISSER, MELINDA JAYNE | 02/20/2002
SUSANVILLE, CA
WAHL, REBECCA | 02/20/2002
WESTERN, NE
WAHLERS, KATHLEEN A | 02/20/2002
MUNCIE, IN
WARRICK, LYNETTE ANN | 02/20/2002
ST CLOUD, MN
WATKINS, DEBORAH ANN | 02/20/2002
WINCHESTER, IL
WAYNE, SYLVIA | 02/20/2002
SUN CITY WEST, AZ
WELCH, WENDY J | 02/20/2002
DECORAH, IA
WESTMORELAND, MEREDITH H | 02/20/2002
COLUMBIA, TN
WILLIAMSON, CHRIS E | 02/20/2002
CAMP VERDE, AZ
WILSON, CAMILLE SUE | 02/20/2002
PENDLETON, OR
WOOLDRIDGE, DOUGLAS W | 02/20/2002
WELLESLEY, MA
WRIGHT, PAMELA JEAN | 02/20/2002
ROCHESTER, MN
ZEMAN, LAURA MARIE | 02/20/2002
KETCHIKAN, AK
FEDERAL/STATE EXCLUSION/SUSPENSION
KATZAP, IZEA | 02/20/2002
JAMAICA, NY
MCCASKILL, EDDIE | 02/20/2002
ST LOUIS, MO
SAUL, STEPHEN | 02/20/2002
MARGATE, NJ
FRAUD/KICKBACKS
AMEX II | 10/09/2001
PHOENIX, AZ
SPRIGGS, ROBERT ALAN | 11/24/2000 | FAIRFIELD, CA
OWNED/CONTROLLED BY CONVICTED ENTITIES
ADVANCED HEALTH CLINIC | 02/20/2002
MESA, AZ
CHILD & ADOLESCENT INSTITUTE | 02/20/2002
BEACHWOOD, OH
CHIROPRACTIC PLUS | 02/20/2002
LONGVIEW, TX
CREATIVE CARE ENLIGHTENED | 02/20/2002
FT MYERS, FL
M & G HEALTH CARE, INC | 02/20/2002
MIAMI, FL
MAIN STREET DENTAL ASSOCIATES | 12/18/2001
FARMINGTON, CT
MICHAEL B AUSTIN, D O, P A | 02/20/2002
TAMPA, FL
PSYCHIATRIC PROFESSIONAL GROUP | 02/20/2002
N OLMSTED, OH
DEFAULT ON HEAL LOAN
ALEXANDER, MICHAEL A | 02/20/2002
ALIQUIPPA, PA
ARGUEDAS, WALTER G | 02/20/2002
HIALEAH, FL
BELLER, BRYAN D | 02/20/2002
SOUTHGATE, MI
CAFAGNA, MARK WILLIAM SR | 02/20/2002
WEST HILLS, CA
CAGLE, LARRY S | 02/20/2002
AHOSKIE, NC
CARR, GUY A | 02/20/2002
HUTCHINSON, KS
CONSTANTINESCU, SERBAN CRISTIA | 02/20/2002
PHILADELPHIA, PA
COOPER, SHIRLEY T | 02/20/2002
LANSDALE, PA
CRAIG, BRADLEY D | 02/20/2002
SNOWFLAKE, AZ
DE JESUS-MIRANDA, LUIS A | 02/20/2002
SAN JUAN, PR
DIENER, ROBERT B | 02/20/2002
AUBURNDALE, MA
DONELSON, RICHARD BARTON | 02/20/2002
PHOENIX, AZ
EATON, GARY D | 02/20/2002
SPRINGFIELD, MO
ELLZEY, PAUL D | 02/20/2002
PRATTVILLE, AL
FISHBOUGH, ROSS E | 02/20/2002
BENSLAEM, PA
FLOYD, THOMAS PARKER | 02/20/2002
TRUFANT, MI
GREETHONG, KITIMAN | 02/20/2002
IRVINE, CA
HAGEN, CALVIN P | 02/20/2002
KANSAS CITY, MO
HANSEN, KRIS T | 02/20/2002
ST GEORGE, UT
HORNIG-ROHAN, JAMES EDWARD | 02/20/2002
SENECA, SC
IBRIK, AMIR | 02/20/2002
SYRACUSE, NY
KALMAN, BETSY S | 02/20/2002
RICHMOND HILL, NY
KRUGMAN, LINDA L | 02/20/2002
LEXINGTON, KY
LE SAGE, SAHARA ADAMS | 02/20/2002
LEAGUE CITY, TX
LEONELLI, DAVID ROMAN SR | 02/20/2002
LOS ANGELES, CA
LEWIS, STEVEN R | 02/20/2002
IRVING, TX
LINSTEADT, ELIZABETH M | 02/20/2002
DENISON, TX
LUCEY, TIMOTHY D | 02/20/2002
NEWBURGH, NY
MARTINEZ, DANIEL A | 02/20/2002
REDLANDS, CA
MASSAKOWSKI, EDWARD A | 02/20/2002
BENSALEM, PA
MCGHEE, STEPHANIE Y | 02/20/2002
HOUSTON, TX
MCINNES, THOMAS K | 02/20/2002
POOLESVILLE, MD
MEINHOLD, STEVEN DALE | 02/20/2002
OMAHA, NE
MONICA, JULIANNE H | 02/20/2002
SPRING LAKE, NJ
NEWELL, DAVID CLIFFORD | 02/20/2002
FORT BRAGG, CA
OWCZAREK, KEITH VINCENT | 02/20/2002
MARYSVILLE, WA
PATT, RICHARD H | 02/20/2002
NEW YORK, NY
PEISS, STUART | 02/20/2002
HOFFMAN ESTATES, IL
PHILLIPS, THADDEUS HILLARD III | 02/20/2002
SAN ANTONIO, TX
PORTNOW, ROBERT THOMAS | 02/20/2002
CLEVELAND, OH
RAMU, NALAYA | 02/20/2002
LOS ANGELES, CA
RASHTI, KOUROS | 02/20/2002
TARZANA, CA
RICHBERG, MARK H | 02/20/2002
PHILADELPHIA, PA
RIGNEY, MARK EDWARD | 02/20/2002
OKLAHOMA CITY, OK
ROMERO, JOHN JOSEPH | 02/20/2002
ALBURQUERQUE, NM
RORRER, MARK TIMOTHY | 02/20/2002
CLAYTON, OH
ROZENBERG, RONALD L | 02/20/2002
LEVITTOWN, NY
RUSSELL, BILL | 02/20/2002
ST LOUIS, MO
SAID, SAED M | 12/18/2001
DUNIONVILLE, CT
SANDOR, GEORGE JOSEPH | 02/20/2002
NEW YORK, NY
SAUTMAN, SATPAL K | 02/20/2002
PLANTATION, FL
SCHWARTZ, FRANCIS XAVIER JR | 02/20/2002
OAKLAND, CA
SCHWARZ-MANDRACCHIA, DENISE MA | 02/20/2002
WINTERSET, IA
SLOTNICK, ROBIN T | 02/20/2002
CLEVELAND, OH
STOCK, ANN M | 02/20/2002
BELLEVILLE, IL
THOMPSON, JANETTE A | 02/20/2002
SILVER SPRING, MD
TOLIVER, EDWARD C | 02/20/2002
CHICAGO, IL
VESTICH, GEORGE T | 02/20/2002
RICHMOND, OH
VILLANO, GUY JOHN | 02/20/2002
NISKAYUNA, NY
WALCHER, KEVIN RAY | 02/20/2002
BOOKER, TX
WALTERS, BRIAN D JR | 02/20/2002
SEATTLE, WA
WAN, JAMES Y | 02/20/2002
MOBILE, AL
WHEDBEE, JOSEPH IRELAND | 02/20/2002
REDLANDS, CA
WILLIAMS, ERIC A | 02/20/2002
TOWSON, MD
WILSON, RONALD E | 02/20/2002
DETROIT, MI
YODER, KYLE JAY | 02/20/2002
REDWOOD CITY, CA
ZIMMERMAN, MARY L P | 02/20/2002
OCONOMOWOL, WI

Dated: March 4, 2002.
Calvin Anderson, Jr.,
Director, Health Care Administrative Sanctions, Office of Inspector General.

[FR Doc. 02-5944 Filed 3-12-02; 8:45 am]

BILLING CODE 4150-04-P